DEPARTMENT OF DEFENSE

Department of the Army; Corps of Engineers

Intent To Prepare a Draft Environmental Impact Statement for the Proposed River Islands Project, in San Joaquin County, CA

AGENCY: Department of the Army, U.S. Army Corps of Engineers, DoD.

ACTION: Notice of intent.

SUMMARY: The U.S. Army Corps of Engineers, Sacramento District (Corps), will prepare a Draft Environmental Impact Statement (DEIS) for Corps authorization actions for the proposed River Islands project. The overall project purpose is to construct a large-scale, mixed-use project consisting of residential development, a commercial complex, and which may include open space and recreational amenities, located in San Joaquin County or the south delta area. The DEIS will address impacts such as major changes in the operation and maintenance of a Federal flood control project, navigation, hydrology, water quality, wetlands, endangered species, agricultural resources, transportation, cultural resources, and air quality.

DATES: The projected date for public release of the DEIS is November, 2006. Two public scoping meetings will be held on June 29, 2005, to receive comments on the proposed contents of the DEIS. One meeting will be held during business hours at 1:30 p.m. and the second will be held in the evening at 7 p.m. to accommodate the schedules of participants.

ADDRESSES: The scoping meetings will be held at the Lathrop Community Room, 15453 7th Street, Lathrop, CA 95330. Written comments may be mailed to Ms. Patti Johnson at, 1325 J Street, Room 1480, Sacramento, CA 95814-2922. All comments must be received on or before July 29, 2005.

FOR FURTHER INFORMATION CONTACT: Questions about the proposed action and the DEIS can be answered by Ms. Patti Johnson, telephone (916) 557-6611, or e-mail at patti.P.Johnson@usace.army.mil. Please refer to Identification Number 199500412.

SUPPLEMENTARY INFORMATION: River Islands, LLC, (applicant) has applied for Corps authorization under section 404 of the Clean Water Act. The applicant is also requesting the State of California Reclamation Board to seek permission from the Corps Chief of Engineers under 33 U.S.C. 408 to permanently alter federal flood control project levees. The project as proposed would also require Corps authorization under Section 10 of the Rivers and Harbors Act. The project may also require other Federal, State or local authorizations, including bridge permit(s) from the U.S. Coast Guard under Section 9 of the Rivers and Harbors Act.

The proposed project site currently includes agricultural land, forested riparian habitat, and rip-rapped flood control levees. It is in the area known as West Lathrop, which was annexed to the City of Lathrop in 1997. Stewart Tract is an island in the Sacramento-San Joaquin River Delta bounded by the San Joaquin River on the north and east, Old River on the west, and Paradise Cut on the south. Union Pacific Railroad (UPRR) tracks are located along the eastern boundary of the largest portion of the project site. Paradise Cut is used for irrigation and as a flood control bypass channel carrying flood waters from the San Joaquin River to Old River. The area adjacent to the project site is largely agricultural. However, the Mossdale portion of West Lathrop immediately north of the project is currently undergoing urban development. Developed portions of the City of Lathrop are east of Interstate Highway 5 and the proposed project site.

The proposed project area covers approximately 4,905 acres of Stewart Tract, which flooded in 1997, and surrounding waterways. The project would include work in the San Joaquin River, Old River, Paradise Cut, an unnamed drainage channel, pond and adjacent wetlands on Stewart Tract, for the purpose of rebuilding and strengthening existing levees, constructing a series of setback levees, and constructing residential and commercial development, including recreation facilities, back bays and an interior lake. Excavation and expansion of Paradise Cut would be undertaken to increase its storage and flow capacity. Levees along Old River and the San Joaquin River would be reconfigured and strengthened by the addition of soil on the landward side of the levees to create high-ground corridors along the river edges. A new cross-levee would be build immediately west of, and paralleling, the existing UPRR right-of-way. The applicant asserts levee work along the San Joaquin River and Old River afford the opportunity for back bays which would create limited flood control storage, habitat for various Delta fisheries and sites for recreational facilities, including marinas.

Under the applicant's proposed alternative, approximately 11,000 homes, five million square feet of commercial and retail space and a variety of other community facilities and associated infrastructure would be constructed. The mixed-use development would cover approximately 4,115 acres and include a town center district, an employment center, public service facilities, retail and commercial uses, residential neighborhoods, lakes and water features, schools, parks and trails, golf courses, open space and habitat areas. Two bridge crossings over the San Joaquin River and two bridge crossings over Paradise Cut would be constructed to provide access to and from the developed areas. Water-oriented recreational facilities would include boat docks, ramps and piers. Docks sufficient to provide 921 total berths would be constructed. The applicant also proposes to create approximately 280 acres of open water habitat and 35 acres of wetlands in the central lake.

A Subsequent Environmental Impact Report (EIR) for the River Islands at Lathrop Project was certified by the City of Lathrop in January, 2003. A General Plan Amendment, West Lathrop Specific Plan amendment, rezoning and an Urban Design Concept have also been approved by the City.

A delineation which identifies approximately 379 acres of waters of the United States, including 41.18 acres of emergent wetlands, 55.23 acres of scrub/shrub wetlands, 60.92 acres of forested wetlands, 2.77 acres of pond, and 218.51 acres of riverine/channel aquatic habitat, within the approximately 5,546-acre area surveyed for the project site, was verified by the Corps on January 30, 2004. The applicant asserts that approximately 32-acres of waters, including wetlands, would be lost to project construction under their preferred alternative. The proposed project would also directly and indirectly impact other waters, including wetlands, in and around the project.

The applicant's proposed conceptual mitigation for the project's impacts to waters consists of creation of approximately 140 acres of new waters in Paradise Cut and approximately 85 acres of new waters in the proposed back bays. These would include approximately 46 acres of emergent wetland and shallow water habitat (less than 10-feet deep) for various fish species and restoration of approximately 10 acres of wetlands at the Paradise Weir bench.

The proposed project may affect federally-listed endangered or threatened species or their critical habitat including delta smelt, steelhead, spring-run chinook salmon, winter-run chinook salmon, giant garter snake, riparian brush rabbit, and valley elderberry longhorn beetle. Other special status species may occur in the project area. The proposed project may adversely affect Essential Fish Habitat (EFH) as defined in the Magnuson-Stevens Fishery Conservation and Management Act. Once a biological assessment has been completed, the Corps will initiate formal consultation with the U.S. Fish and Wildlife Service and NOAA Fisheries, under Section 7 of the Endangered Species Act, for federally-listed threatened or endangered species and for EFH that would be affected by the project. The Corps will also consult with the State Historic Preservation Officer under Section 106 of the National Historic Preservation Act for properties listed or potentially eligible for listing on the National Register of Historic Places, as appropriate.

A number of on-site and off-site project alternatives, including the no-action alternative, will be evaluated in the DEIS in accordance with NEPA and the Section 404(b)(1) guidelines.

Potentially significant issues to be analyzed in depth in the DEIS include, but are not limited to, wetlands and terrestrial biology, cultural resources, water quality, hydrology and flood protection, floodplain management, navigation, agricultural resources, transportation and traffic and air quality.

The above determinations are based on information provided by the applicant and upon the Corps' preliminary review. The Corps is soliciting verbal and written comments from the public, Federal, State and local agencies and officials, Indian tribes, and other interested parties in order to consider and evaluate the impacts of this proposed activity. The Corps' public involvement program includes several opportunities to provide oral and written comments. Affected Federal, State, local agencies, Indian tribes, and other interested private organizations and the general public are invited to participate.

Dated: May 31, 2005.
Ronald N. Light,
Colonel, Corps of Engineers, District Engineer.

[FR Doc. 05-11499 Filed 6-9-05; 8:45 am]

BILLING CODE 3710-EH-M